ENVIRONMENTAL PROTECTION AGENCY

[FRL-8213-5]

FY 2006 and 2007 Targeted Watersheds Grant Program: Availability of Funds and Request for Proposals for Implementation Projects (CFDA 66.439—Funding Opportunity Number EPA-OW-OWOW-06-3)

AGENCY: Environmental Protection Agency (EPA).

ACTION: Notice, extension of the submission date for proposals for watershed projects.

SUMMARY: On August 15, 2006, EPA published a notice announcing the availability of funds for grants and cooperative agreements under EPA's Targeted Watersheds Grant Program. The announcement solicits proposals for watershed restoration and/or protection projects throughout the country. This notice is to extend the submission date for proposals to November 15, 2006. EPA is extending the submission date for proposals to be consistent with Agency communications.

DATES: Proposals are now due by November 15, 2006.

ADDRESSES: Erin Collard; USEPA; Office of Wetlands, Oceans, and Watersheds; Room 7136G; Mail Code 4501T; 1301 Constitution Avenue, NW.; Washington, DC 20004; telephone: 202-566-2655.

FOR FURTHER INFORMATION CONTACT: For questions regarding this extension, please contact Carol Peterson at 202-566-1304 or by e-mail at peterson.carol@epa.gov. A copy of the Targeted Watersheds Grant Program Request for Proposals, this notice extending the date for submitting proposals, and additional information on the program can be found on the Targeted Watersheds Grant Web site at http://www.epa.gov/twg.

Dated: August 22, 2006.
Bonnie Thie,
Acting Director, Office of Wetlands, Oceans and Watersheds.

[FR Doc. 06-7216 Filed 8-28-06; 8:45 am]

BILLING CODE 6560-50-P